FEDERAL ENERGY REGULATORY COMMISSION

Project No. 13874-000

Clean River Power 15, LLC; Notice of Preliminary Permit Application Accepted for Filing and Soliciting Comments, Motions To Intervene, and Competing Applications

November 16, 2010.

On October 22, 2010, Clean River Power 15, LLC filed an application for a preliminary permit, pursuant to section 4(f) of the Federal Power Act (FPA), proposing to study the feasibility of the Wailua River Hydroelectric Project (Wailua project) to be located in Kauai County, Hawaii. The sole purpose of a preliminary permit, if issued, is to grant the permit holder priority to file a license application during the permit term. A preliminary permit does not authorize the permit holder to perform any land-disturbing activities or otherwise enter upon lands or waters owned by others without the owners' express permission.

The proposed project will consist of the following: (1) A 503-foot-long, 23-foot-high earth-filled, roller-compacted-concrete dam creating a 35-acre reservoir with a storage capacity of approximately 430 acre-feet; (2) a 40-foot-wide, 20-foot-high intake structure constructed on the left side of the dam, with a trash rack, fish screens, and a closure gate; (3) a 4,800-foot-long, 7-foot-diameter steel penstock; (4) a 60-foot-long, 50-foot-wide powerhouse containing one 1.8-megawatt (MW) and one 4.8-MW Francis-type turbine; (5) a 50-foot-long, concrete and rip rap-lined tailrace channel to return flows from the powerhouse to the Wailua River; (6) a switchyard containing a three-phase step-up transformer; (7) an approximately 1.92-mile-long, 25-kilovolt transmission line extending from the switchyard to the Lydgate substation; and (8) appurtenant facilities. The estimated annual generation of the Wailua project would be 20.7 gigawatt-hours.

Applicant Contact: Ramya Swaminathan, Clean River Power 15, LLC, 33 Commercial Street, Gloucester, MA 01930; phone: (978) 283-2822.

FERC Contact: Jennifer Harper, (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13874-000) in the docket number field to access the document. For assistance, contact FERC Online Support.

Kimberly D. Bose,
Secretary.

[FR Doc. 2010-29445 Filed 11-22-10; 8:45 am]

BILLING CODE 6717-01-P